DEPARTMENT OF TRANSPORTATION

Connected Vehicle Reference Implementation Architecture Workshop; Notice of Public Meeting

AGENCY: ITS Joint Program Office, Office of the Assistant Secretary for Research and Technology, U.S. Department of Transportation.

ACTION: Notice.

The U.S. Department of Transportation (USDOT) Intelligent Transportation System Joint Program Office (ITS JPO) will host a free Connected Vehicle Reference Implementation Architecture (CVRIA) public workshop meeting to present and seek input on the emerging results of its Connected Vehicle interfaces and standards analysis. The public meeting will take place August 20, 2014, 8:30 a.m.-5:00 p.m. PDT and August 21, 2014, 8:30 a.m.-4:00 p.m. PDT at the Holiday Inn Golden Gateway Hotel, 1500 Van Ness Ave, San Francisco, California 94109.

To register for the CVRIA Workshop, please visit www.itsa.org/cvriaregistration.

The results of an initial USDOT led analysis will be presented and feedback will be sought during this public workshop. The agenda will focus discussion on:

• Which interfaces have been identified as candidates for standardization;

• The process used for the identification and prioritization of these interfaces and associated information exchanges; and

• Results from the analysis which:

○ Identify how standards that exist today may satisfy interface and exchange needs or may require some level of modification; and

○ Identify standards gaps that exist.

It is expected that results from this analysis will inform USDOT decision making regarding future support of specific standards activities. The project is sponsored and led by the USDOT's ITS JPO as part of the ITS Architecture and Standards Program and Systems Engineering and Test Bed Program efforts.

Updates will be available on the ITS Program Web site at: http://www.its.dot.gov/ under Press Room: Public Meetings and Events, and on the ITS Standards Web site at: http://www.standards.its.dot.gov/DevelopmentActivities/CVReference.

SUPPLEMENTARY INFORMATION: As the results of the CVRIA, interface analysis, and standardization efforts are expected to affect a wide variety of public and private organizations, it is important that the analyses incorporate, as appropriate, the needs and requirements of the CV community. This workshop is an appropriate opportunity for external stakeholders to engage in the standards discussion.

For further information, please contact Carlos Alban, Transportation Program Specialist, Intelligent Transportation Society of America, 1100 New Jersey Ave. SE., Suite 850, Washington, DC 20003, 202-721-4223, calban@itsa.org.

Issued in Washington, DC, on the 17th day of July 2014.
John Augustine,
Managing Director, ITS Joint Program Office.

[FR Doc. 2014-17289 Filed 7-22-14; 8:45 am]

BILLING CODE 4910-9X-P